DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 25, 2008.

Interested persons are invited to submit written comments regarding the subject matter of the investigations to the Director, Division of Trade Adjustment Assistance, at the address shown below, not later than February 25, 2008.

The petitions filed in this case are available for inspection at the Office of the Director, Division of Trade Adjustment Assistance, Employment and Training Administration, U.S. Department of Labor, Room C-5311, 200 Constitution Avenue, NW., Washington, DC 20210.

Signed at Washington, DC, this 6th day of February 2008.
Ralph DiBattista,
Director, Division of Trade Adjustment Assistance.

APPENDIX
[TAA petitions instituted between 1/28/08 and 2/1/08]
TA-W | Subject Firm (petitioners) | Location | Date of institution | Date of petition
62746 | Reed and Barton Corporation (Comp) | Taunton, MA | 01/28/08 | 01/25/08
62747 | Thomas Brothers Maps and Rand McNally Company (State) | Irvine, CA | 01/28/08 | 01/25/08
62748 | Panasonic Primary Battery Corporation of America (Comp) | Columbus, GA | 01/28/08 | 01/25/08
62749 | Industrial Wire Products (Wkrs) | Sullivan, MO | 01/28/08 | 01/23/08
62750 | Carson's of High Point (Wkrs) | Archdale, NC | 01/28/08 | 01/16/08
62751 | Saco Lowell Parts, LLC (Comp) | Easley, SC | 01/28/08 | 01/11/08
62752 | DynAmerica Manufacturing, LLC (Wkrs) | Muncie, IN | 01/28/08 | 01/26/08
62753 | Aerotek (State) | Flint, MI | 01/29/08 | 01/28/08
62754 | Silicon Laboratories, Inc. (Wkrs) | Austin, TX | 01/29/08 | 01/28/08
62755 | Geiger Manufactured Products Group (Comp) | Lewiston, ME | 01/29/08 | 01/17/08
62756 | Wacco Scaffolding and Equipment (Comp) | Cleveland, OH | 01/29/08 | 01/28/08
62757 | Meadowcraft, Inc. (Comp) | Birmingham, AL | 01/29/08 | 01/28/08
62758 | Parker International Products, Inc. (Comp) | Worcester, MA | 01/29/08 | 01/16/08
62759 | Inverness Corporation (Wkrs) | Fairlawn, NJ | 01/29/08 | 01/28/08
62760 | Delphi Automotive Systems (Wkrs) | Kokomo, IN | 01/29/08 | 01/28/08
62761 | TI Automotive (Plant #27) (Comp) | Marysville, MI | 01/29/08 | 01/28/08
62762 | Pembrook Chair Corporation, Inc. (Wkrs) | Claremont, NC | 01/29/08 | 01/25/08
62763 | Ruerson/Briteline (Wkrs) | Chicago, IL | 01/30/08 | 01/28/08
62764 | Pineer Manufacturing Company, Inc. (Wkrs) | Rillton, PA | 01/30/08 | 01/29/08
62765 | Unisys (Comp) | Plymouth, MI | 01/30/08 | 01/29/08
62766 | School Apparel, Inc. (State) | Star City, AR | 01/30/08 | 01/29/08
62767 | Masterbrand Cabinets (Comp) | Crossville, TN | 01/30/08 | 01/29/08
62768 | North Barre Granite, Inc. (Comp) | Barre, VT | 01/30/08 | 01/21/08
62769 | Nemak USA, Inc. (Wkrs) | Dickson, TN | 01/30/08 | 01/12/08
62770 | Diamond Tool and Die Company (Wkrs) | Dayton, OH | 01/30/08 | 01/24/08
62771 | Parlex USA (Wkrs) | Methuen, MA | 01/30/08 | 01/29/08
62772 | Ramtex Yarns and Fabrics, LLC (Comp) | Ramseur, NC | 01/30/08 | 01/29/08
62773 | Computer Sciences Corporation (Wkrs) | San Diego, CA | 01/30/08 | 01/28/08
62774 | Agfa Corporation (Comp) | Wilmington, MA | 01/31/08 | 01/30/08
62775 | American Standard (Union) | Tiffin, OH | 01/31/08 | 01/30/08
62776 | Tree Top, Inc (IBT) | Cashmere, WA | 01/31/08 | 01/29/08
62777 | Brunswick Bowling and Billiards (IAMAW) | Antigo, WI | 01/31/08 | 01/30/08
62778 | Lear Corporation (Union) | Fenton, MI | 01/31/08 | 01/30/08
62779 | Visteon Concordia (UAW) | Concordia, MO | 01/31/08 | 01/29/08
62780 | Xantrex Technology, Inc. (Comp) | Arlington, WA | 01/31/08 | 01/30/08
62781 | Dillan Chenille, Inc. (Comp) | Martinsville, VA | 01/31/08 | 01/29/08
62782 | Quality Services, Inc. (Comp) | Lordstown, OH | 01/31/08 | 01/30/08
62783 | Kemet Electronics Corporation, Fountain Inn, SC (Comp) | Fountain Inn, SC | 02/01/08 | 01/25/08
62784 | Kemet Electronics Corp., Simpsonville, SC (Comp) | Simpsonville, SC | 02/01/08 | 01/25/08
62785 | Sappi Fine Paper (Comp) | Allentown, PA | 02/01/08 | 02/01/08
62786 | Springs Global U.S. , Inc. (Rep) | Lancaster, SC | 02/01/08 | 01/31/08
62787 | Hasbro, Inc./Milton Bradley (Comp) | East Longmeadow, MA | 02/01/08 | 01/30/08
62788 | Amity/Rolfs, Inc. (Wkrs) | West Bend, WI | 02/01/08 | 01/31/08
62789 | Bollman Hat Company (Comp) | Adamstown, Pa | 02/01/08 | 01/31/08
62790 | Donaldson Company, Inc. (State) | Grinnell, IA | 02/01/08 | 01/31/08
62791 | Jacquart Fabric Products, Inc. (Comp) | Ironwood, MI | 02/01/08 | 01/31/08
62792 | Erisco Industries, Inc. (Wkrs) | Erie, PA | 02/01/08 | 01/30/08

[FR Doc. E8-2617 Filed 2-12-08; 8:45 am]

BILLING CODE 4510-FN-P